DEPARTMENT OF HEALTH AND HUMAN SERVICES

Administration for Children and Families

[HHS-2009-ACF-ACYF-FVPS-0035]

Family Violence Prevention and Services/Grants for Domestic Violence Shelters and Related Assistance/Grants to States

Program Office | Administration on Children, Youth and Families (ACYF), Family and Youth Services Bureau (FYSB).
Funding Opportunity Number | HHS-2009-ACF-ACYF-FVPS-0035.
Announcement Title | Family Violence Prevention and Services/Grants for Domestic Violence Shelters and Related Assistance/Grants to States.
CFDA Number | 93.671.
Due Date for Applications | May 4, 2009.

Executive Summary: This announcement governs the proposed award of mandatory grants under the Family Violence Prevention and Services Act (FVPSA) to States (including Territories and Insular Areas). The purpose of these grants is to assist States in establishing, maintaining, and expanding programs and projects to prevent family violence and to provide immediate shelter and related assistance for victims of family violence and their dependents (42 U.S.C. 10401).

This announcement sets forth the application requirements, the application process, and other administrative and fiscal requirements for grants in Fiscal Year (FY) 2009. Starting in FY 2009, applications should cover FYs 2009, 2010 and 2011 (see Section II, Funds Available, Length of Project Period).

I. Description

Legislative Authority: The Family Violence Prevention and Services Act, 42 U.S.C. 10401 through 10421, as extended by the Department of Health and Human Services Appropriations Act, 2009, Public Law 111-8.

Background

The purpose of this legislation is to assist States and Indian Tribes, Tribal organizations, and non-profit private organizations approved by an Indian Tribe in supporting the establishment, maintenance, and expansion of programs and projects to prevent incidents of family violence and to provide immediate shelter and related assistance for victims of family violence and their dependents that meet the needs of all victims, including those in underserved communities (42 U.S.C. 10401).

During FY 2008, the Department of Health and Human Services (HHS) made 52 grants to States. 202 grants were made to Indian Tribes, Tribal organizations, and non-profit private organizations approved by Indian Tribes. The Department of Health and Human Services (HHS) also made 53 family violence prevention grant awards to non-profit State Domestic Violence Coalitions.

The National Domestic Violence Hotline (Hotline) is funded by FVPSA to ensure that everyone has access to information and emergency assistance wherever and whenever it is needed. The Hotline is a 24-hour, toll-free service that provides crisis assistance, counseling, and local shelter referrals for people across the country who need assistance. Hotline counselors also are available for non-English speaking persons and for people who are hearing-impaired. The Hotline number is 1-800-799-SAFE (7233); the TTY number for the hearing-impaired is 1-800-787-3224.

Annual State Administrators Grantee Meeting

The annual grantee meeting for the State FVPSA Administrators is a training and technical assistance activity that FVPSA State Administrators should expect to attend. Subsequent correspondence will advise the State FVPSA Administrators of the date, time and location of their grantee meeting.

Client Confidentiality

FVPSA programs must establish or implement policies and protocols for maintaining the safety and confidentiality of the adult victims of domestic violence and their children whom they serve. It is essential that the confidentiality of individuals receiving FVPSA services be protected. Consequently, when providing statistical data on program activities and program services, individual identifiers of client records will not be used by the State or other FVPSA grantees or subgrantees. The address or location of any FVPSA-supported shelter facility will, except with written authorization of the person or persons responsible for the operation of such shelter, not be made public and the confidentiality of records pertaining to any individual provided family violence prevention and treatment services by any FVPSA-supported program will be strictly maintained (42 U.S.C. 10402(a)(2)(E)).

Confidentiality requirements have been strengthened and clarified with the passage of the Violence Against Women and Department of Justice Reauthorization Act of 2005 (Pub. L. 109-162). In the interest of establishing a consistent Federal standard for domestic violence programs, HHS intends to follow the confidentiality provisions and definition of “personally identifying information” in sections 40002(b)(2) and 40002(a)(18) of the Violence Against Women Act of 1994 (42 U.S.C. 13925(b)(2) and 42 U.S.C. 13925(a)(18)) as a more detailed guidance for grantees about how to comply with the FVPSA confidentiality obligations, and requires FVPSA-funded programs to comply with the VAWA confidentiality provisions.

In FY 2009 guidance, FYSB requires that grantees only collect unduplicated data for each program, and that information not be unduplicated across programs or statewide. No client-level data may be shared with a third party, regardless of encryption, hashing or other data security measures, without a written, time-limited release as described in section 40002(b)(2) of the Violence Against Women Act of 1994 (42 U.S.C. 13925(b)(2)).

The Importance of Coordinated and Accessible Services

The impacts of family violence may include physical injury and death of primary or secondary victims, psychological trauma, isolation from family and friends, harm to children living with a parent or caretaker who is either experiencing or perpetrating family violence, increased fear, reduced mobility, damaged credit, unemployment, financial instability, homelessness, substance abuse, chronic illnesses and a host of other health and related mental health consequences.

Coordination and collaboration among victim services providers, community-based, culturally specific and faith-based service providers, housing providers and homeless services providers, the police, prosecutors, the courts, child welfare services, employers and business, medical and mental health service providers, and Federal, State, and local public official and agencies is needed to provide more responsive and effective services to victims of domestic violence and their families. It is essential that community service providers, including those serving or representing underserved communities, are involved in the design and improvement of intervention and prevention activities.

To help bring about a more effective response to the problem of family violence, HHS urges the designated State agencies receiving funds under this grant announcement to coordinate activities funded under this grant with other new and existing resources for the prevention of family violence and related issues.

To serve victims most in need and to comply with Federal law, services must be widely accessible. Services must not discriminate on the basis of age, handicap, sex, race, color, national origin or religion (42 U.S.C. 10406). The HHS Office for Civil Rights provides guidance to grantees in complying with these requirements. Please see http://www.hhs.gov/ocr/civilrights/resources/specialtopics/origin/domesticviolencefactsheet.html for HHS Office of Civil Rights guidance on serving immigrant victims.

The FVPSA specifically makes Section 504 of the Rehabilitation Act of 1973 (29 U.S.C. 794) applicable to all programs and activities conducted with any FVPSA funds. Section 504 bars organizations and employers from excluding or denying individuals with disabilities or denying such individuals an equal opportunity to receive program benefits and services. Organizations may not establish eligibility criteria for receipt of services or participation in programs or activities that screen out or tend to screen out individuals with disabilities, unless such criteria are necessary to meet the objectives of the program. Under this law, individuals with disabilities are defined as persons with a physical or mental impairment which substantially limits one or more major life activities. Some examples of impairments which may substantially limit major life activities, even with the help of medication or aids/devices, are: AIDS, alcoholism, blindness or visual impairment, cancer, deafness or hearing impairment, diabetes, drug addiction, heart disease, and mental illness.

Please see http://www.hhs.gov/ocr/civilrights/understanding/disability/index.html for HHS Office of Civil Rights guidance on the Americans with Disabilities Act and the Rehabilitation Act of 1973. Services must also be provided on a voluntary basis; receipt of shelter or housing must not be conditioned on participation in supportive services.

National Data Collection and Outcomes Measurement

In collaboration with partners at State FVPSA programs, State Domestic Violence Coalitions (Coalitions), Tribes and Tribal organizations, the National Resource Center on Domestic Violence, and experts on both data collection and domestic violence prevention and intervention issues, FYSB continues to develop informative, succinct, and non-burdensome reporting formats that safely measure quantifiable outputs and outcomes. During FY 2007, FYSB revised and defined the program services reporting components for recipients of FVPSA State Formula Grant funds. Throughout FY 2008, grantee workshops, teleconferences, and information memoranda provided further guidance on performance reporting requirements for these grantees. In FY 2009, FYSB is requiring States and their subgrantees, and Tribal grantees to use standardized reporting forms to facilitate the collection of uniform, aggregate data on FVPSA-supported program services and client outcomes, as described in Section VI.

Definitions

States should use the following definitions in carrying out their programs. The definitions are found in 42 U.S.C. 10421.

Family Violence: Any act or threatened act of violence, including any forceful detention of an individual, which: (a) Results or threatens to result in physical injury; and (b) is committed by a person against another individual (including an elderly person) to whom such person is or was related by blood or marriage or otherwise legally related or with whom such person is or was lawfully residing.

Shelter: The provision of temporary refuge and related assistance in compliance with applicable State law and regulation governing the provision, on a regular basis, of shelter, safe homes, meals, and related assistance to victims of family violence and their dependents.

Related Assistance: The provision of direct assistance to victims of family violence and their dependents for the purpose of preventing further violence, helping such victims to gain access to civil and criminal courts and other community services, facilitating the efforts of such victims to make decisions concerning their lives in the interest of safety, and assisting such victims in healing from the effects of the violence. Related assistance includes:

(1) Prevention services such as outreach and prevention services for victims and their children, assistance for children who witness domestic violence, employment training, parenting and other educational services for victims and their children, preventive health services within domestic violence programs (including services promoting nutrition, disease prevention, exercise, and prevention of substance abuse), domestic violence prevention programs for school-age children, family violence public awareness campaigns, and violence prevention counseling services to abusers;

(2) Counseling with respect to family violence, counseling or other supportive services provided by peers individually or in groups, and referral to community social services;

(3) Transportation and technical assistance with respect to obtaining financial assistance under Federal and State programs, and referrals for appropriate health-care services (including alcohol and drug abuse treatment), but shall not include reimbursement for any health-care services;

(4) Legal advocacy to provide victims with information and assistance through the civil and criminal courts, and legal assistance; or

(5) Children's counseling and support services, and child care services for children who are victims of family violence or the dependents of such victims, and children who witness domestic violence.

II. Funds Available

In FY 2009, FY 2010, and FY 2011, HHS will make available for grants to the State-designated, Statewide, Domestic Violence Coalitions the funds described in this announcement. These grant awards are subject to the availability of Federal appropriations, and as authorized by the Family Violence Prevention and Services Act, 42 U.S.C. sections 10401 through 10421, (extended by the Department of Health and Human Services Appropriations Act, 2009, Pub. L. 111-8, and/or any subsequent pertinent legal authorities).

State Allocation

FVPSA grants to the States, the District of Columbia, and the Commonwealth of Puerto Rico are based on a population formula. Each State grant shall be $600,000 with the remaining funds allotted to each State on the same ratio as the population of the State to the population of all States (42 U.S.C. 10403(a)(2)). State populations are determined on the basis of the most recent census data available to the Secretary of HHS, and the Secretary shall use for such purpose, if available, the annual current interim census data produced by the Secretary of Commerce pursuant to 13 U.S.C. 181 (42 U.S.C. 10403(b)).

For the purpose of computing allotments, the statute provides that Guam, American Samoa, the Virgin Islands, and the Northern Mariana Islands will each receive grants of not less than one-eighth of one percent of the amounts appropriated (42 U.S.C. 10403(a)(1)).

Length of Project Periods

States now apply for three years of grant funds in this one application. The project period under this program announcement continues to be 24 months for each award. FYSB will continue to disperse funds annually. States will not be required to submit additional applications for the years FY 2010 through FY 2011 unless there are material changes made to the program. Therefore, States must address their anticipated activities not only for the FY 2009 project period; i.e., October 2008 through September 2010, but also for the project periods covered by FYs 2010 through 2011; i.e., October 2009 through September 2012. States will have the opportunity to amend their applications for each of the fiscal years FY 2010 and FY 2011 if their anticipated activities materially change. This change does not affect the amount of the grant award or the timing of the grant award, only the application process.

Award year (federal fiscal year) | Project period (24 months) | Application requirements
FYSB will continue to disperse funds annually. The Federal FY is a one-year period from September through October | States will continue to have two years to spend the funds | This change does not affect the amount of the grant award or the timing of the grant award, only the application process.
FY 2009 | 10/01/08-9/30/10 | States apply for three years of grant funds in this one application. States must address their anticipated activities for the FY 2009 project period, and also for the project periods covered by FYs 2010 and 2011.
FY 2010 | 10/01/09-9/30/11 | States will not be required to submit an additional application for FY 2010 unless there are material changes made to the program.
FY 2011 | 10/01/10-9/30/12 | States will not be required to submit an additional application for FY 2011 unless there are material changes made to the program.

Expenditure Period

FVPSA funds may be used for expenditures on and after October 1 of each fiscal year for which they are granted, and will be available for expenditure through September 30 of the following fiscal year; i.e., FY 2009 funds may be used for expenditures from October 1, 2008, through September 30, 2010.

Re-allotted funds, if any, are available for expenditure until the end of the fiscal year following the fiscal year that the funds became available for re-allotment. FY 2009 grant funds that are made available to the States through re-allotment, under 42 U.S.C. 10403(d), must be expended by the State no later than September 30, 2010. FY 2010 grant funds that are made available to the States through re-allotment, under 42 U.S.C. 10403(d), must be expended by the State no later than September 30, 2011. FY 2011 grant funds that are made available to the States through re-allotment, under 42 U.S.C. 10403(d), must be expended by the State no later than September 30, 2012.

III. Eligibility

“States” as defined in section 320 of FVPSA are eligible to apply for funds. The term “State” means each of the 50 States, the District of Columbia, the Commonwealth of Puerto Rico, Guam, American Samoa, the Virgin Islands, and the Commonwealth of the Northern Mariana Islands.

In the past, Guam, the Virgin Islands, the Commonwealth of the Northern Mariana Islands and American Samoa have applied for funds as a part of their consolidated grant under the Social Services Block grant. These jurisdictions need not submit an application under this program announcement if they choose to have their allotment included as part of a consolidated grant application.

Additional Information on Eligibility

D-U-N-S Requirement

All applicants must have a D&B Data Universal Numbering System (D-U-N-S) number. On June 27, 2003, the Office of Management and Budget (OMB) published in the Federal Register a new Federal policy applicable to all Federal grant applicants. The policy requires Federal grant applicants to provide a D-U-N-S number when applying for Federal grants or cooperative agreements on or after October 1, 2003. The D-U-N-S number will be required whether an applicant is submitting a paper application or using the government-wide electronic portal, http://www.Grants.gov. A D-U-N-S number will be required for every application for a new award or renewal/continuation of an award, including applications or plans under formula, entitlement, and block grant programs, submitted on or after October 1, 2003.

Please ensure that the applicant's organization has a D-U-N-S number. To acquire a D-U-N-S number at no cost, call the dedicated toll-free D-U-N-S number request line at 1-866-705-5711 or request a number online at http://www.dnb.com.

IV. Application Requirements

The project description is approved under the Office of Management and Budget (OMB) control number 0970-0280, which expires on December 31, 2011.

Content of Application Submission

The State's application must be submitted by the Chief Executive of the State and signed by the Chief Executive Officer or the Chief Program Official designated as responsible for the administration of FVPSA.

Each application must contain the following information or documentation:

(1) The name of the State agency, the name and contact information for the Chief Program Official designated as responsible for the administration of funds under FVPSA and coordination of related programs within the State, and the name and contact information for a contact person if different from the Chief Program Official (42 U.S.C. 10402(a)(2)(D)).

(2) A plan describing in detail how the needs of underserved populations will be met (42 U.S.C. 10402(a)(2)(C)). “Underserved populations” include populations underserved because of geographic location (such as rural isolation), underserved racial and ethnic populations, populations underserved because of special needs (such as language barriers, disabilities, immigration status, or age), and any other population determined to be underserved by the State planning process or the Secretary of HHS (42 U.S.C. 13925(a)(32)).

(a) Identify which populations in the State are underserved, describe those that are being targeted for outreach and services, and provide a brief explanation of why those populations were selected to receive outreach and services.

(b) Describe the outreach plan, including the domestic violence training to be provided, the means for providing technical assistance and support, and the leadership role played by those representing and serving the underserved populations in question.

(c) Describe the specific services to be provided or enhanced, such as new shelters or services, improved access to shelters or services, or new services for underserved populations such as victims from communities of color, immigrant victims, or victims with disabilities, etc.

(d) Describe the public information component of the State's outreach program: The elements of your program that are used to explain domestic violence, the most effective and safe ways to seek help, tools to identify available resources, etc.

(3) Provide a complete description of the process and procedures used to involve the State Domestic Violence Coalition, knowledgeable individuals, and interested organizations, including those serving or representing underserved communities, in the State planning process, and provide assurances that the State grantee is in compliance with the requirements of 42 U.S.C. 10402(a)(2)(C).

(4) Provide complete documentation of consultation with and participation of the State Domestic Violence Coalition in the administration and distribution of FVPSA grants and grant funds awarded to the State as required by 42 U.S.C. 10410(a)(5) and 42 U.S.C. 10402(a)(2)(C)).

(5) Provide complete documentation of policies, procedures and protocols that ensure individual identifiers of client records will not be used when providing statistical data on program activities and program services, that the confidentiality of records pertaining to any individual provided family violence prevention or treatment services by any FVPSA-supported program will be strictly maintained, and the address or location of any FVPSA-supported shelter will not be made public without the written authorization of the person or persons responsible for the operation of such shelter (42 U.S.C. 10402(a)(2)(E)).

(6) Describe the plan to assure an equitable distribution of grants and grant funds within the State and between urban and rural areas within such State (42 U.S.C. 10402(a)(2)(C)).

(7) Include a description of how the State plans to use the grant funds; a description of the target populations; the number of shelters to be funded; the number of non-residential programs to be funded; the services the State will provide; and the expected results from the use of the grant funds (42 U.S.C. 10402(a)(2)).

(8) Provide a copy of the law or procedures, such as a process for obtaining an order of protection, that the State has implemented for the eviction of an abusive spouse from a shared household (42 U.S.C. 10402(a)(2)(F)).

Note: As required by the Paperwork Reduction Act of 1995, Public Law 104-13, the public reporting burden for the project description is estimated to average 10 hours per response, including the time for reviewing instructions, gathering and maintaining the data needed, and reviewing the collection information. The Project Description information collection is approved under OMB control number 0970-0280, which expires on 12/31/2011. An agency may not conduct or sponsor, and a person is not required to respond to, a collection of information unless it displays a currently valid OMB control number.

Assurances

Each application must provide the assurances in Appendix A.

Certifications

All applications must submit or comply with the required certifications found in the Appendices as follows:

Anti-Lobbying Certification and Disclosure Form (See Appendix B)

Applicants must furnish prior to award an executed copy of the Standard Form (SF) LLL, Certification Regarding Lobbying, when applying for an award in excess of $100,000. Applicants who have used non-Federal funds for lobbying activities in connection with receiving assistance under this announcement shall complete a disclosure form, if applicable, with their applications (approved by OMB under control number 0348-0046). Applicants should sign and return the certification with their application.

Certification Regarding Environmental Tobacco Smoke (See Appendix C)

Applicants and subgrantees must understand they will be held accountable for the smoking prohibition included within Public Law 103-227, Title XII Environmental Tobacco Smoke (also known as the Pro Children Act of 1994). A copy of the Federal Register notice which implements the smoking prohibition is included with the forms. By signing and submitting the application, applicants are accepting and agreeing to all terms and conditions of the certification.

Certification Regarding Drug-Free Workplace Requirements (See Appendix D)

The signature on the application by the chief program official attests to the applicant's intent to comply with the Drug-Free Workplace requirements and compliance with the Debarment Certification. By signing and submitting the application, applicants are accepting and agreeing to all terms and conditions of the certification.

These certifications can also be found at http://www.acf.hhs.gov/programs/ofs/forms.htm.

Notification Under Executive Order 12372

For States, this program is covered under Executive Order 12372, “Intergovernmental Review of Federal Programs,” for State plan consolidation and implication only—45 Code of Federal Regulations (CFR) 100.12. The review and comment provisions of the Executive Order and Part 100 do not apply.

Applications should be sent to:

Family Violence Prevention and Services Program,

Family and Youth Services Bureau,

Administration on Children, Youth and Families,

Administration for Children and Families,

Attention: Edna James or Shannon R. Gaskins, 1250 Maryland Avenue, SW., Suite 8214, Washington, DC 20024.

V. Approval/Disapproval of a State Application

The Secretary of HHS will approve any application that meets the requirements of FVPSA and this announcement and will not disapprove any such application except after reasonable notice of the Secretary's intention to disapprove has been provided to the applicant and after a six-month period providing an opportunity for the applicant to correct any deficiencies. The notice of intention to disapprove will be provided to the applicant within 45 days of the date of the application.

VI. Reporting Requirements

Performance Reports

Beginning with FY 2009 awards, ACF grantees will begin submitting Performance Progress Reports using a standardized format, the SF-PPR. The SF-PPR is the standard government-wide performance progress reporting format used by Federal agencies to collect performance information from recipients. A version of the SF-PPR has been tailored for grantees under this announcement as the ACYF-FYSB-FVPS-SF-PPR. A Program Performance Report must be filed with HHS describing the activities carried out, and including an assessment of the effectiveness of those activities in achieving the purposes of the grant. A section of this performance report must be completed by each grantee or sub-grantee that performed the direct services contemplated in the application certifying performance of such services. A copy of the ACYF-FYSB-FVPS-SF-PPR will be available in the Web page publication of this announcement at http://www.acf.hhs.gov/programs/fysb/content/familyviolence/index.html approximately 10 business days after the publication of this announcement in the Federal Register.

The performance report must include the following data elements and narrative examples of the services that were provided:

Funding—The total amount of the FVPSA grant funds awarded. Total amount of State administrative cost. Total number of subgrants awarded. Total domestic violence program budget for programs that received FVPSA subgrants. The number of domestic violence programs with residential facilities funded. The number of non-residential programs funded.

Volunteers—The total number of volunteers working in FVPSA-supported programs; total volunteer hours.

Narrative Questions—For services or activities in the State supported in whole or in part by FVPSA funding, provide examples or summaries that describe:

• Stories concerning individual clients, services, or community or Statewide initiatives;

• Activities that the FVPSA grant allows grantees to do that they wouldn't be able to do without this funding.

• Efforts to identify and meet the needs of underserved populations, including populations underserved because of ethnic, racial, cultural, or language diversity or geographic isolation. Include the ongoing challenges in addressing these needs.

• Significant prevention activities conducted during the program year.

• Any additional information that the grantee would like to share about the State's FVPSA-supported domestic violence programs and their effectiveness, the unmet needs of victims in the State and what would be required to meet those needs, or service trends that are emerging in their communities.

People Served—

• An unduplicated count (unduplicated by program but not across State) of non-residential clients who are women, men, children, and youth who are intimate partner violence victims.

• An unduplicated count (unduplicated by program but not across State) of residential clients, including the number of shelter nights, for women, men, children, and youth who are intimate partner violence victims.

Demographics—For Unduplicated Clients, include the following demographic categories:

• Race/Ethnicity: Black or African American; American Indian/Alaska Native; Asian; Hispanic or Latino; Native Hawaiian/Other Pacific Islander; White; Unknown/Other.

• Gender: Female; Male; or Not Specified.

• Age: 0-17; 18-24; 25-59; 60+; Unknown.

Residential Services—

• Total Shelter Nights.

• Number of Unmet Requests for Shelter.

Related Services and Assistance—List the related services and assistance provided to victims and their family members by indicating the number of hours and or number of service contacts in each of the following categories:

• Crisis/Hotline Calls (Number of Calls).

• Supportive Counseling and Advocacy: Individual and group.

• Children's Services.

—Supportive Counseling and Advocacy: Individual and group.

—Children's Activities: Individual and group.

• Batterer Intervention Services (if Funded through FVPSA): Individual and group.

Community Education and Public Awareness—Report the number of presentations and participants that attended presentations/training for:

• Adults/General Population.

• Youth Targeted.

• Community Awareness Activities (Number of Events Only).

Outcome Data—Report results from FVPSA outcome surveys:

• Total number of domestic violence survivors who have more strategies for enhancing their safety, and total number completing safety outcome survey; and,

• Total number of domestic violence survivors who have more knowledge about community resources, and total number completing resource outcome survey.

Performance Reports for the States are due on an annual basis at the end of the calendar year (December 29). Performance Reports should be sent to:

Family Violence Prevention and Services Program,

Family and Youth Services Bureau,

Administration on Children, Youth and Families,

Administration for Children and Families,

Attention: Edna James or Shannon R. Gaskins, 1250 Maryland Avenue, SW., Suite 8214, Washington, DC 20024.

Please note that section 42 U.S.C. 10402(a)(4) of FVPSA requires HHS to suspend funding for an approved application if any State applicant fails to submit an annual Performance Report or if the funds are expended for purposes other than those set forth under this announcement.

Financial Status Reports

Grantees must submit annual Financial Status Reports. The first SF-269A for FY 2009 grant awards is due December 29, 2009. The final SF-269A for FY 2009 is due December 29, 2010. The first SF-296A for FY 2010 grant awards is due December 29, 2010. The final SF-269A for FY 2010 is due December 29, 2011. The first SF-269A for FY 2011 grant awards is due December 29, 2011. The final SF-269A for FY 2011 is due December 29, 2012. SF-269A can be found at http://www.whitehouse.gov/omb/grants/grants_forms.html.

Completed reports may be mailed to: Frederick Griefer, Division of Mandatory Grants, Office of Grants Management, Administration for Children and Families, 370 L'Enfant Promenade, SW., 6th Floor, Washington, DC 20447.

Grantees have the option of submitting their reports online through the Online Data Collection (OLDC) system at the following address: https://extranet.acf.hhs.gov/ssi.

Failure to submit reports on time may be a basis for withholding grant funds, suspension or termination of the grant. All funds reported as unobligated after the obligation period will be recouped.

VII. Administrative and National Policy Requirements

Grantees are subject to the requirements in 45 CFR Part 74 (non-governmental) or 45 CFR Part 92 (governmental).

Direct Federal grants, sub-award funds, or contracts under this ACF program shall not be used to support inherently religious activities such as religious instruction, worship, or proselytization. Therefore, organizations must take steps to separate, in time or location, their inherently religious activities from the services funded under this program. Regulations pertaining to the Equal Treatment for Faith-Based Organizations, which includes the prohibition against Federal funding of inherently religious activities, can be found at the HHS Web site at http://www.hhs.gov/fbci/waisgate21.pdf.

A faith-based organization receiving HHS funds retains its independence from Federal, State, and local governments and may continue to carry out its mission, including the definition, practice, and expression of its religious beliefs. For example, a faith-based organization may use space in its facilities to provide secular programs or services funded with Federal funds without removing religious art, icons, scriptures, or other religious symbols. In addition, a faith-based organization that receives Federal funds retains its authority over its internal governance, and it may retain religious terms in its organization's name, select its board members on a religious basis, and include religious references in its organization's mission statements and other governing documents in accordance with program requirements, statutes, and other applicable requirements governing the conduct of HHS funded activities.

Faith-based and community organizations may reference the “Guidance to Faith-Based and Community Organizations on Partnering with the Federal Government” at http://www.whitehouse.gov/government/fbci/guidance/index.html.

VIII. Other Information

FOR FURTHER INFORMATION CONTACT: Edna James at (202) 205-7750 or e-mail at Edna.James@acf.hhs.gov, or Shannon R. Gaskins at (202) 205-7891 or e-mail at Shannon.Gaskins@acf.hhs.gov.

Dated: March 27, 2009.
Maiso L. Bryant,
Acting Commissioner, Administration on Children, Youth and Families.

Appendices—Required Assurances and Certifications

A. Assurances.

B. Anti-Lobbying and Disclosure.

C. Environmental Tobacco Smoke.

D. Drug-Free Workplace Requirements.

Appendix A

Assurances of Compliance With Grant Requirements

The undersigned certifies that:

(1) Grant funds under FVPSA will be distributed to local public agencies and non-profit private organizations (including religious and charitable organizations and voluntary associations) for programs and projects within the State to prevent incidents of family violence and to provide immediate shelter and related assistance for victims of family violence and their dependents in order to prevent future violent incidents (42 U.S.C. 10402(a)(2)(A)).

(2) Not less than 70 percent of the funds distributed shall be used for immediate shelter and related assistance, as defined in 42 U.S.C. 10421(4) and (5), to victims of family violence and their dependents and not less than 25 percent of the funds distributed shall be used to provide related assistance as defined in 42 U.S.C. 10421(5) (42 U.S.C. 10402(g)).

(3) Not more than five percent of the funds will be used for State administrative costs (42 U.S.C. 10402(a)(2)(B)(i)).

(4) In distributing the funds, the States will give special emphasis to the support of community-based projects of demonstrated effectiveness carried out by non-profit, private organizations, particularly for those projects where the primary purpose is to operate shelters for victims of family violence and their dependents and those which provide counseling, advocacy, and self-help services to victims and their children (42 U.S.C. 10402(a)(2)(B)(ii)).

(5) The State grantee is in compliance with the requirements of 42 U.S.C. 10402(a)(2)(C), as described in this program announcement (Program Announcement Number HHS-2009-ACF-ACYF-FVPS-0035) under Section IV, Application Requirements, Content of Application Submission, paragraphs (2), (3), (4), and (6).

(6) Grants funded by the States will meet the matching requirements in 42 U.S.C. 10402(f); i.e., not less than 20 percent of the total funds provided for a project under 42 U.S.C. 110 with respect to an existing program, and with respect to an entity intending to operate a new program under 42 U.S.C. 110, not less than 35 percent. The local share will be cash or in-kind, and the local share will not include any Federal funds provided under any authority other than this chapter (42 U.S.C. 10402(f)).

(7) Grant funds made available under this program by the State will not be used as direct payment to any victim or dependent of a victim of family violence (42 U.S.C. 10402(d)).

(8) No income eligibility standard will be imposed on individuals receiving assistance or services supported with funds appropriated to carry out FVPSA (42 U.S.C. 10402(e)).

(9) The address or location of any shelter or facility assisted under FVPSA will not be made public, except with the written authorization of the person or persons responsible for the operations of such shelter (42 U.S.C. 10402(a)(2)(E)).

(10) The applicant will comply with FVPSA confidentiality requirements and has established policies, procedures and protocols that ensure individual identifiers of client records will not be used when providing statistical data on program activities and program services and that the confidentiality of records pertaining to any individual provided domestic violence prevention or treatment services by any FVPSA-supported program will be strictly maintained (42 U.S.C. 10402(a)(2)(E)).

(11) All grants, programs or other activities funded by the State in whole or in part with funds made available under FVPSA will prohibit discrimination on the basis of age, handicap, sex, race, color, national origin or religion (42 U.S.C. 10406).

(12) Funds made available under the FVPSA will be used to supplement and not supplant other Federal, State and local public funds expended to provide services and activities that promote the purposes of the FVPSA (42 U.S.C. 10402 (a)(4).

Signature

Title

Organization

Appendix B—Certification Regarding Lobbying

Certification for Contracts, Grants, Loans, and Cooperative Agreements

The undersigned certifies, to the best of his or her knowledge and belief, that:

(1) No Federal appropriated funds have been paid or will be paid, by or on behalf of the undersigned, to any person for influencing or attempting to influence an officer or employee of an agency, a Member of Congress, an officer or employee of Congress, or an employee of a Member of Congress in connection with the awarding of any Federal contract, the making of any Federal grant, the making of any Federal loan, the entering into of any cooperative agreement, and the extension, continuation, renewal, amendment, or modification of any Federal contract, grant, loan, or cooperative agreement.

(2) If any funds other than Federal appropriated funds have been paid or will be paid to any person for influencing or attempting to influence an officer or employee of any agency, a Member of Congress, an officer or employee of Congress, or an employee of a Member of Congress in connection with this Federal contract, grant, loan, or cooperative agreement, the undersigned shall complete and submit Standard Form-LLL, “Disclosure Form to Report Lobbying,” in accordance with its instructions.

(3) The undersigned shall require that the language of this certification be included in the award documents for all subawards at all tiers (including subcontracts, subgrants, and contracts under grants, loans, and cooperative agreements) and that all subrecipients shall certify and disclose accordingly. This certification is a material representation of fact upon which reliance was placed when this transaction was made or entered into. Submission of this certification is a prerequisite for making or entering into this transaction imposed by section 1352, title 31, U.S. Code. Any person who fails to file the required certification shall be subject to a civil penalty of not less than $10,000 and not more than $100,000 for each such failure.

Statement for Loan Guarantees and Loan Insurance

The undersigned states, to the best of his or her knowledge and belief, that:

If any funds have been paid or will be paid to any person for influencing or attempting to influence an officer or employee of any agency, a Member of Congress, an officer or employee of Congress, or an employee of a Member of Congress in connection with this commitment providing for the United States to insure or guarantee a loan, the undersigned shall complete and submit Standard Form-LLL, “Disclosure Form to Report Lobbying,” in accordance with its instructions. Submission of this statement is a prerequisite for making or entering into this transaction imposed by section 1352, title 31, U.S. Code. Any person who fails to file the required statement shall be subject to a civil penalty of not less than $10,000 and not more than $100,000 for each such failure.

Signature

Title

Organization

Appendix C—Certification Regarding Environmental Tobacco Smoke

Public Law 103227, Part C Environmental Tobacco Smoke, also known as the Pro Children Act of 1994 (Act), requires that smoking not be permitted in any portion of any indoor routinely owned or leased or contracted for by an entity and used routinely or regularly for provision of health, day care, education, or library services to children under the age of 18, if the services are funded by Federal programs either directly or through State or local governments, by Federal grant, contract, loan, or loan guarantee. The law does not apply to children's services provided in private residences, facilities funded solely by Medicare or Medicaid funds, and portions of facilities used for inpatient drug or alcohol treatment. Failure to comply with the provisions of the law may result in the imposition of a civil monetary penalty of up to $1000 per day and/or the imposition of an administrative compliance order on the responsible entity. By signing and submitting this application the applicant/grantee certifies that it will comply with the requirements of the Act.

The applicant/grantee further agrees that it will require the language of this certification be included in any subawards which contain provisions for the children's services and that all subgrantees shall certify accordingly.

Appendix D—Certification Regarding Drug-Free Workplace Requirements

This certification is required by the regulations implementing the Drug-Free Workplace Act of 1988: 45 CFR part 76, subpart, F. Sections 76.630(c) and (d)(2) and 76.645(a)(1) and (b) provide that a Federal agency may designate a central receipt point for State-wide and State agency-wide certifications, and for notification of criminal drug convictions. For the Department of Health and Human Services, the central point is: Division of Grants Management and Oversight, Office of Management and Acquisition, Department of Health and Human Services, Room 517-D, 200 Independence Avenue, SW., Washington, DC 20201.

Certification Regarding Drug-Free Workplace Requirements (Instructions for Certification)

(1) By signing and/or submitting this application or grant agreement, the grantee is providing the certification set out below.

(2) The certification set out below is a material representation of fact upon which reliance is placed when the agency awards the grant. If it is later determined that the grantee knowingly rendered a false certification, or otherwise violates the requirements of the Drug-Free Workplace Act, the agency, in addition to any other remedies available to the Federal Government, may take action authorized under the Drug-Free Workplace Act.

(3) For grantees other than individuals, Alternate I applies.

(4) For grantees who are individuals, Alternate II applies.

(5) Workplaces under grants, for grantees other than individuals, need not be identified on the certification. If known, they may be identified in the grant application. If the grantee does not identify the workplaces at the time of application, or upon award, if there is no application, the grantee must keep the identity of the workplace(s) on file in its office and make the information available for Federal inspection. Failure to identify all known workplaces constitutes a violation of the grantee's drug-free workplace requirements.

(6) Workplace identifications must include the actual address of buildings (or parts of buildings) or other sites where work under the grant takes place. Categorical descriptions may be used (e.g., all vehicles of a mass transit authority or State highway department while in operation, State employees in each local unemployment office, performers in concert halls or radio studios).

(7) If the workplace identified to the agency changes during the performance of the grant, the grantee shall inform the agency of the change(s), if it previously identified the workplaces in question (see paragraph five).

(8) Definitions of terms in the Nonprocurement Suspension and Debarment common rule and Drug-Free Workplace common rule apply to this certification. Grantees' attention is called, in particular, to the following definitions from these rules:

Controlled substance means a controlled substance in Schedules I through V of the Controlled Substances Act (21 U.S.C. 812) and as further defined by regulation (21 CFR 1308.11 through 1308.15);

Conviction means a finding of guilt (including a plea of nolo contendere) or imposition of sentence, or both, by any judicial body charged with the responsibility to determine violations of the Federal or State criminal drug statutes;

Criminal drug statute means a Federal or non-Federal criminal statute involving the manufacture, distribution, dispensing, use, or possession of any controlled substance;

Employee means the employee of a grantee directly engaged in the performance of work under a grant, including: (i) All direct charge employees; (ii) All indirect charge employees unless their impact or involvement is insignificant to the performance of the grant; and, (iii) Temporary personnel and consultants who are directly engaged in the performance of work under the grant and who are on the grantee's payroll. This definition does not include workers not on the payroll of the grantee (e.g., volunteers, even if used to meet a matching requirement; consultants or independent contractors not on the grantee's payroll; or employees of subrecipients or subcontractors in covered workplaces).

Certification Regarding Drug-Free Workplace Requirements

Alternate I. (Grantees Other Than Individuals)

The grantee certifies that it will or will continue to provide a drug-free workplace by:

(1) Publishing a statement notifying employees that the unlawful manufacture, distribution, dispensing, possession, or use of a controlled substance is prohibited in the grantee's workplace and specifying the actions that will be taken against employees for violation of such prohibition;

(2) Establishing an ongoing drug-free awareness program to inform employees about—

(a) The dangers of drug abuse in the workplace;

(b) The grantee's policy of maintaining a drug-free workplace;

(c) Any available drug counseling, rehabilitation, and employee assistance programs; and

(d) The penalties that may be imposed upon employees for drug abuse violations occurring in the workplace;

(3) Making it a requirement that each employee to be engaged in the performance of the grant be given a copy of the statement required by paragraph (a);

(4) Notifying the employee in the statement required by paragraph (a) that, as a condition of employment under the grant, the employee will—

(a) Abide by the terms of the statement; and

(b) Notify the employer in writing of his or her conviction for a violation of a criminal drug statute occurring in the workplace no later than five calendar days after such conviction;

(5) Notifying the agency in writing, within 10 calendar days after receiving notice under paragraph (d)(2) from an employee or otherwise receiving actual notice of such conviction. Employers of convicted employees must provide notice, including position title, to every grant officer or other designee on whose grant activity the convicted employee was working, unless the Federal agency has designated a central point for the receipt of such notices. Notice shall include the identification number(s) of each affected grant;

(6) Taking one of the following actions, within 30 calendar days of receiving notice under paragraph (d)(2), with respect to any employee who is so convicted—

(a) Taking appropriate personnel action against such an employee, up to and including termination, consistent with the requirements of the Rehabilitation Act of 1973, as amended; or

(b) Requiring such employee to participate satisfactorily in a drug abuse assistance or rehabilitation program approved for such purposes by a Federal, State, or local health, law enforcement, or other appropriate agency;

(7) Making a good faith effort to continue to maintain a drug-free workplace through implementation of paragraphs (a), (b), (c), (d), (e) and (f).

The grantee may insert in the space provided below the site(s) for the performance of work done in connection with the specific grant:

Place of Performance (Street Address, City, County, State, Zip Code)

Check if there are workplaces on file that are not identified here.

Alternate II. (Grantees Who Are Individuals)

(1) The grantee certifies that, as a condition of the grant, he or she will not engage in the unlawful manufacture, distribution, dispensing, possession, or use of a controlled substance in conducting any activity with the grant;

(2) If convicted of a criminal drug offense resulting from a violation occurring during the conduct of any grant activity, he or she will report the conviction, in writing, within 10 calendar days of the conviction, to every grant officer or other designee, unless the Federal agency designates a central point for the receipt of such notices. When notice is made to such a central point, it shall include the identification number(s) of each affected grant.

[FR Doc. E9-7504 Filed 4-2-09; 8:45 am]

BILLING CODE 4184-01-P